FEDERAL LABOR RELATIONS AUTHORITY

Membership of the Federal Labor Relations Authority's Senior Executive Service Performance Review Board

AGENCY: Federal Labor Relations Authority.

ACTION: Notice.

SUMMARY: Notice is hereby given of the members of the Performance Review Board.

DATE: October 16, 2009.

FOR FURTHER INFORMATION CONTACT: Sonna Stampone, Executive Director, Federal Labor Relations Authority (FLRA); 1400 K Street, NW.; Washington, DC 20424-0001; (202) 218-7941.

SUPPLEMENTARY INFORMATION: Section 4314(c) of Title 5, U.S.C. (as amended by the Civil Service Reform Act of 1978) requires each agency to establish, in accordance with regulations prescribed by the Office of Personnel Management, one or more Performance Review Boards (PRBs). Section 4314(c)(4) requires that notice of appointment of the PRB be published in the Federal Register.

As required by 5 CFR 430.310, the following executives have been appointed to serve on the 2009-2011 PRB for the FLRA, beginning October 2009 through September 2011:

Erin M. McDonnell, Associate Special Counsel for Legal Counsel and Policy, United States Office of Special Counsel.

William D. Spencer, Clerk of the Board, United States Merit Systems Protection Board.

Kathleen James, Deputy Director of Administration, National Labor Relations Board.

James E. Petrucci, Director, Dallas Regional Office, Federal Labor Relations Authority.

Susan McCluskey, Chief Counsel for the Chairman, Federal Labor Relations Authority.

Catherine V. Emerson, Director, Office of Policy and Personnel Management, Federal Labor Relations Authority.

Authority: 5 U.S.C. 4134(c)(4).

Dated: October 9, 2009.
Sonna Stampone,
Executive Director.

[FR Doc. E9-24947 Filed 10-15-09; 8:45 am]

BILLING CODE 6727-01-P